DEPARTMENT OF COMMERCE

United States Patent and Trademark Office

[Docket No. PTO-T-2009-0045]

Trademark Manual of Examining Procedure, Sixth Edition

AGENCY: United States Patent and Trademark Office, Commerce.

ACTION: Notice.

SUMMARY: The United States Patent and Trademark Office (“USPTO”) issued the sixth edition of the Trademark Manual of Examining Procedure (“TMEP”) on October 12, 2009.

ADDRESSES: The USPTO prefers that any suggestions for improving the form and content of the TMEP be submitted via electronic mail message to tmtmep@uspto.gov. Written comments may also be submitted by mail addressed to: Commissioner for Trademarks, P.O. Box 1451, Alexandria, VA 22313-1451, marked to the attention of Editor, Trademark Manual of Examining Procedure or by hand delivery to the Trademark Assistance Center, Concourse Level, James Madison Building-East Wing, 600 Dulany Street, Alexandria, Virginia, marked to the attention of Editor, Trademark Manual of Examining Procedure.

FOR FURTHER INFORMATION CONTACT: Mary E. Hannon, Office of the Deputy Commissioner for Trademark Examination Policy, by electronic mail at: mary.hannon@uspto.gov; or by mail addressed to: Commissioner for Trademarks, P.O. Box 1451, Alexandria, VA 22313-1451, marked to the attention of Mary E. Hannon.

SUPPLEMENTARY INFORMATION: On October 12, 2009, the USPTO issued the sixth edition of the TMEP, which provides USPTO trademark examining attorneys, trademark applicants, and attorneys and representatives for trademark applicants with a reference on the practices and procedures for prosecution of applications to register marks in the USPTO. The TMEP contains guidelines for examining attorneys and materials in the nature of information and interpretation, and outlines the procedures which examining attorneys are required or authorized to follow in the examination of trademark applications.

The sixth edition incorporates USPTO trademark practice and relevant case law reported prior to September 1, 2009. The policies stated in this revision supersede any previous policies stated in prior editions, examination guides, or any other statement of USPTO policy, to the extent that there is any conflict.

The TMEP may be viewed or downloaded free of charge from the USPTO Web site at: http://tess2.uspto.gov/tmdb/tmep/.

Dated: October 19, 2009.
David J. Kappos,
Under Secretary of Commerce for Intellectual Property and Director of the United States Patent and Trademark Office.

[FR Doc. E9-25581 Filed 10-22-09; 8:45 am]

BILLING CODE 3510-16-P